NUCLEAR REGULATORY COMMISSION

10 CFR Part 72

[NRC-2020-0179]

RIN 3150-AK51

List of Approved Spent Fuel Storage Casks: Holtec International HI-STORM UMAX Canister Storage System, Certificate of Compliance No. 1040, Amendment No. 4

AGENCY: Nuclear Regulatory Commission.

ACTION: Direct final rule; confirmation of effective date.

SUMMARY: The U.S. Nuclear Regulatory Commission (NRC) is confirming the effective date of January 25, 2021, for the direct final rule that was published in the Federal Register on November 9, 2020. This direct final rule amended the Holtec International HI-STORM UMAX Canister Storage System listing in the “List of approved spent fuel storage casks” to include Amendment No. 4 to Certificate of Compliance No. 1040. Amendment No. 4 revises the certificate of compliance to update the technical specifications for radiation protection regarding the dose rate limit for the vertical ventilated module lid, update the technical specifications for the vent blockage limiting condition for operation, and add a Type 1 version of multi-purpose canister MPC-37.

DATES: The effective date of January 25, 2021, for the direct final rule published November 9, 2020 (85 FR 71223), is confirmed.

ADDRESSES: Please refer to Docket ID NRC-2020-0179 when contacting the NRC about the availability of information for this action. You may obtain publicly available information related to this action by any of the following methods:

• Federal Rulemaking Website: Go to https://www.regulations.gov and search for Docket ID NRC-2020-0179. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The final amendment to the certificate of compliance, the final changes to the technical specifications, and the final safety evaluation report are available in ADAMS under Accession No. ML20349A206.

• Attention: The PDR, where you may examine and order copies of public documents, is currently closed. You may submit your request to the PDR via email at pdr.resource@nrc.gov or call 1-800-397-4209 between 8:00 a.m. and 4:00 p.m., Monday through Friday, except on Federal Holidays.

FOR FURTHER INFORMATION CONTACT: Christian J. Jacobs, Office of Nuclear Material Safety and Safeguards; telephone: 301-415-6825; email: Christian.Jacobs@nrc.gov or Torre M. Taylor, Office of Nuclear Material Safety and Safeguards; telephone: 301-415-7900; email: Torre.Taylor@nrc.gov. Both are staff of the U.S. Nuclear Regulatory Commission, Washington, DC 20555-0001.

SUPPLEMENTARY INFORMATION: On November 9, 2020, the NRC published a direct final rule (85 FR 71223) amending its regulations in part 72 of title 10 of the Code of Federal Regulations for the Holtec International HI-STORM UMAX Canister Storage System listing in the “List of approved spent fuel storage casks” to include Amendment No. 4 to Certificate of Compliance No. 1040. Amendment No. 4 revises the certificate of compliance to update the technical specifications for radiation protection regarding the dose rate limit for the vertical ventilated module lid, update the technical specifications for the vent blockage limiting condition for operation, and add a Type 1 version of multi-purpose canister MPC-37.

In the direct final rule, the NRC stated that if no significant adverse comments were received, the direct final rule would become effective on January 25, 2021. The NRC received and docketed one comment on the companion proposed rule (85 FR 71274, November 9, 2020). An electronic copy of the comment can be obtained from the Federal Rulemaking website at https://www.regulations.gov under Docket ID NRC-2020-0179 and is also available in ADAMS under Accession No. ML20349A179.

The NRC evaluated the comment against the criteria described in the direct final rule and determined that it was not significant and adverse. Specifically, the comment was outside the scope of this rulemaking and did not oppose the rule; propose a change or an addition to the rule; or cause the NRC to make a change to the rule, the certificate of compliance, or the technical specifications. Therefore, this direct final rule will become effective as scheduled.

Dated: January 5, 2021.
For the Nuclear Regulatory Commission.
Cindy K. Bladey,
Chief, Regulatory Analysis and Rulemaking Support Branch, Division of Rulemaking, Environmental, and Financial Support, Office of Nuclear Material Safety and Safeguards.

[FR Doc. 2021-00231 Filed 1-12-21; 8:45 am]

BILLING CODE 7590-01-P